ENVIRONMENTAL PROTECTION AGENCY

[FRL-6974-1]

Agency Information Collection Activities: Proposed Collection; Comment Request; Underground Injection Control (UIC) Program

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB):

Underground Injection Control Program, EPA ICR No. 0370.13, OMB Control No. 2040-0042 which expires 9/30/01. Before submitting the ICR to OMB for review and approval, EPA is soliciting comments on specific aspects of the proposed information collection as described below.

DATES: Comments must be submitted on or before July 2, 2001.

ADDRESSES: Persons interested in getting information or making comment about this ICR (# 0370.13) should direct inquires to Robert E. Smith, U.S. Environmental Protection Agency; Ariel Rios Building; 1200 Pennsylvania Avenue, NW, Mail Stop 4606; Washington, DC 20460.

FOR FURTHER INFORMATION CONTACT: Robert E. Smith, Office of Ground Water and Drinking Water: 202-260-5559; FAX 202-401-2345; E-mail: robert-eu@epa.gov. Further information on the ICR can be obtained from the Safe Drinking Water Hotline at (703) 286-1093, E-mail: hotline-sdwa@epa.gov.

SUPPLEMENTARY INFORMATION: Affected entities: Entities potentially affected by this action are owners/operators of underground injection wells and State UIC Primacy Agencies including, Puerto Rico, the U.S. Trust Territories, Indian Tribes, and Alaska's Native Villages and, in some instances, U.S. EPA Regional Offices.

Title: Information Collection Request for the Underground Injection Control Program (OMB Control No. 2040-0042; EPA ICR No. 0370.13.), expiring September 30, 2001.

Abstract: The Underground Injection Control (UIC) Program under the Safe Drinking Water Act established a Federal and State regulatory system to protect underground sources of drinking water (USDWs) from contamination by injected fluids. Owners/operators of underground injection wells must obtain permits, conduct environmental monitoring, maintain records, and report results to EPA or the State UIC primacy agency. States must report to EPA on permittee compliance and related information. The information is reported using standardized forms, and regulations are codified at 40 CFR parts 144 through 148. The data are used to ensure the protection of underground sources of drinking water from UIC authorities. An agency may not conduct or sponsor, and a person is not required to respond to, a collection of information unless it displays a currently valid OMB control number. The OMB control numbers for EPA's regulations are listed in 40 CFR part 9 and 48 CFR chapter 15.

The EPA would like to solicit comments to:

(i) Evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information. In the UIC Program ICR for 1998-2001, the total burden associated with it was estimated to be 1,135,273 hours per year and the total cost was estimated to be $58,246,054 per year. EPA expects that the total burden for the continuing UIC Program ICR for the period 2001-2004 will be approximately the same except for inflation for the cost information. This is because little or no significant increase in the UIC well population is anticipated during this period. EPA also considered the possible impact of the Class V Well Phase I rulemaking (64 FR 68546, 11/30/99) implementation for the renewal period. While this rulemaking has separate ICR coverage until November 2002, the Program ICR will include slightly increased burden and cost for State implementation of Class V Well Phase I rulemaking from December 1, 2002 until September 30, 2004.

Respondents/Affected Entities: Owners/Operators of UIC wells, State Primacy Agencies including, Puerto Rico, the U.S. Trust Territories, Indian Tribes, and Alaska's Native Villages and EPA Regional Offices.

Dated: April 25, 2001.
Philip S. Oshida,
Acting Director, Office of Ground Water and Drinking Water.

[FR Doc. 01-11092 Filed 5-2-01; 8:45 am]

BILLING CODE 6560-50-P